MORRIS K. UDALL AND STEWART L. UDALL FOUNDATION

Sunshine Act Meetings

TIME AND DATE: 9 a.m. to 12:30 p.m. (EST), Wednesday, December 7, 2022.

PLACE: The University of Arizona Washington, DC Center for Outreach and Collaboration, 1301 Pennsylvania Avenue NW, Suite 500, Washington, DC, 20004.

STATUS: This meeting will be open to the public. Members of the public who would like to attend this meeting may request remote access by contacting David Brown at brown@udall.gov prior to December 7, 2022, to obtain the teleconference connection information.

MATTERS TO BE CONSIDERED: (1) Call to Order and Chair's Remarks; (2) Trustee Remarks; (3) Executive Director's Remarks; (4) Consent Agenda Approval (Minutes of the April 27, 2022, Board of Trustees Meeting; Board Reports submitted for Data and Information Technology, Education Programs, Finance and Internal Controls, John S. McCain III National Center for Environmental Conflict Resolution, and Udall Center for Studies in Public Policy, including the Native Nations Institute for Leadership, Management, and Policy and The University of Arizona Libraries, Special Collections; and Board takes notice of any new and updated personnel policies and internal control methodologies); (5) The University of Arizona Fiscal Year 2023 Program Work Plan and Funding (including resolutions regarding Allocation of Funds to the Udall Center for Studies in Public Policy and The University of Arizona Libraries, Special Collections and Funds Set Aside for the Native Nations Institute for Leadership, Management, and Policy, a program of the Udall Center for Studies in Public Policy); (6) Udall Foundation Finances; and (7) Other Business (including Presentation of Trustees Awards for Outstanding Accomplishment).

CONTACT PERSON FOR MORE INFORMATION: David P. Brown, Executive Director, 130 South Scott Avenue, Tucson, AZ 85701, (520) 901-8560.

Dated: November 16, 2022.
David P. Brown,
Executive Director, Morris K. Udall and Stewart L. Udall Foundation, and Federal Register Liaison Officer.

[FR Doc. 2022-25327 Filed 11-16-22; 4:15 pm]

BILLING CODE 6820-FN-P